ENVIRONMENTAL PROTECTION AGENCY

[FRL-7148-3]

Availability of FY 00 Grant Performance Reports for States of Tennessee and Georgia, and the Commonwealth of Kentucky

AGENCY: Environmental Protection Agency (EPA).

ACTION: Notice of availability of grantee performance evaluation reports.

SUMMARY: EPA's grant regulations (40 CFR 35.150) require the Agency to evaluate the performance of agencies which receive grants. EPA's regulations for regional consistency (40 CFR 56.7) require that the Agency notify the public of the availability of the reports of such evaluations. EPA performed end-of-year evaluations of all state air pollution control programs. Evaluations for the Commonwealth of Kentucky, and the States of Georgia and Tennessee are now available for public review. These evaluations were conducted to assess the agencies' performance under the grants awarded by EPA under authority of section 105 of the Clean Air Act. EPA Region 4 has prepared reports for each agency identified above and these reports are now available for public inspection. The evaluations for the remainder of the States and local governments were published at an earlier date.

ADDRESSES: The reports may be examined at the EPA's Region 4 office, 61 Forsyth Street, SW., Atlanta, Georgia 30303, in the Air, Pesticides, and Toxics Management Division.

FOR FURTHER INFORMATION CONTACT: Gloria Knight, (404) 562-9064, for information concerning the State of Tennessee; or Marie Persinger (404) 562-9048, for information concerning Kentucky and Georgia. They may be contacted at the above Region 4 address.

Dated: February 7, 2002.
A. Stanley Meiburg,
Deputy Regional Administrator, Region 4.

[FR Doc. 02-4302 Filed 2-21-02; 8:45 am]

BILLING CODE 6560-50-P